DEPARTMENT OF JUSTICE

Notice of Lodging of Consent Decree Pursuant to the Comprehensive Environmental Response, Compensation, and Liability Act

In accordance with 42 U.S.C. 9622(d)(2)(A) and (B) and Departmental policy, notice is hereby given that on April 27, 2005, a proposed consent decree in the case captioned United States of America and the State of Illinois v. Kerr-McGee Chemical LLC, Civil Action No. 05 C 2318 (N.D. Illinois), was lodged with the United States District Court for the Northern District of Illinois.

This action under CERCLA Sections 106 and 107(a) involves four Superfund Sites in and around the City of West Chicago, Illinois: the Residential Areas Site (“RAS”), the Reed-Keppler Park (“RKP”) Site; the Kress Creek/West Branch of DuPage River (“Kress Creek”) Site; and the Sewage Treatment Plant (“STP”) Site (collectively “Sites”). In a four count complaint, the United States and Illinois sought response costs at all four of the Sites, natural resource damages (“NRD”) at three Sites, and remediation at two Sites that have not yet been cleaned up.

Under the Consent Decree, Kerr-McGee agrees to: (1) Perform the remedial actions selected by EPA for the two Sites that have not yet been cleaned up (the Kress Creek Site and the STP River Operable Unit (“OU”)); (2) implement a natural resources restoration plan for the stream bed, the stream banks, and riparian areas that will be damaged by the remedial work at these two Sites; (3) perform minor, remaining remedial action, monitoring and restoration work at the RAS, RKP Site, and the STP Upland OU; (4) undertake additional restoration activities in the amount of approximately $800,000; (5) reimburse EPA $6 million for past response costs; (6) pay EPA 100% of future, non-oversight response costs; (7) pay EPA up to $1.675 million for future oversight costs; (8) pay the State $100,000 for NRD-related costs; (9) page DOI $75,000 for NRD-related costs; (10) withdraw with prejudice a pending CERCLA 106(b) claim against EPA for reimbursement of costs incurred at the RKP Site; and (11) covenant not to sue the United States for any costs relating to the four Sites.

The Department of Justice will receive for a period of thirty (30) days from the date of this publication comments relating to the Consent Decree. Comments should be addressed to the Assistant Attorney General, Environment and Natural Resources Division, P.O. Box 7611, U.S. Department of Justice, Washington, DC 20044-7611, and should refer to United States, et al. v. Kerr-McGee Chemical, LLC, D.J. Ref. No. 90-11-2-07349/1.

The Consent Decree may be examined at: (1) The United States Environmental Protection Agency (Region 5), 77 West Jackson Boulevard, Chicago, Illinois 60604-3590; (2) the City of West Chicago Public Library, 118 W. Washington St., West Chicago, IL 60185; and (3) the Warrenville Public Library, 28W751 Stafford Place, Warrenville, IL 60555. During the public comment period, the Consent Decree may also be examined on the following Department of Justice Web site http://www.usdoj.gov/enrd/open.html. A copy of the Consent Decree without Appendices may be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check on the amount of $24.75 (25 cents per page reproduction cost) payable to the U.S. Treasury.

William D. Brighton,
Assistant Section Chief, Environmental Enforcement Section, Environment and Natural Resources Division.

[FR Doc. 05-9441 Filed 5-11-05; 8:45 am]

BILLING CODE 4410-15-M